DEPARTMENT OF EDUCATION

[CFDA No. 84.184K]

Safe and Drug-Free Schools and Communities National Coordinator Program

AGENCY: Office of Elementary and Secondary Education, Department of Education.

ACTION: Notice inviting applications for new awards for fiscal year (FY) 2002.

SUMMARY: The Assistant Secretary invites applications for new grant awards for FY 2002 for the Safe and Drug-Free Schools and Communities (SDFSC) National Coordinator Program. These grants are authorized under the Elementary and Secondary Education Act of 1965 as amended, title IV, part A, subpart 2, section 4125, SDFSC National Programs. The Assistant Secretary also announces the final priority, definitions, and selection criteria to govern this competition and FY 2002 awards of these grants.

Purpose of Program: The purpose of the SDFSC National Coordinator Program is to provide grants to local educational agencies to recruit, hire, and train individuals to serve as drug prevention and school safety program coordinators in schools with significant drug and school safety problems.

Eligible Applicants: Local educational agencies (LEAs)

Note: LEAs may apply in consortium with one or more adjacent LEAs; however, each LEA in the consortium must meet all requirements of the priority for this competition, and one LEA must serve as lead applicant.

Applications Available: April 12, 2002.

Deadline for Receipt of Applications: May 28, 2002.

Deadline for Intergovernmental Review: July 26, 2002.

Available Funds: Approximately $12,000,000.

Estimated Number of Awards: 30.

Estimated Size of Awards: $250,000—$650,000.

Estimated Average Size of Awards: $400,000.

Note: These estimates are projections for the guidance of potential applicants. The Department is not bound by any estimates in this notice.

Project Period: Up to 36 months.

Applicable Regulations: The Education Department General Administrative Regulations (EDGAR) in 34 CFR parts 75, 77, 79, 80, 81, 82, 85, 97, 98, and 99.

SUPPLEMENTARY INFORMATION: In making awards under this grant program, the Assistant Secretary may take into consideration the geographic distribution of the projects in addition to the rank order of applicants.

Contingent upon the availability of funds, the Assistant Secretary may make additional awards in FY 2003 from the rank-ordered list of unfunded applications from this competition.

LEAs receiving grants under this program will use funds to recruit, hire, and train individuals to serve as drug prevention and school safety program coordinators in schools with significant drug and school safety problems. Those coordinators will be responsible for developing, conducting, and analyzing assessments of drug and crime problems at their schools and for administering the safe and drug-free grant program at those schools.

Definitions

a. For purposes of this competition, “administering the safe and drug-free grant program” means that the coordinator will perform the following functions in schools with significant drug and school safety problems:

(1) Identify research-based drug and violence prevention strategies;

(2) Assist schools in adopting the most successful strategies, including training of teachers and staff and relevant partners as needed;

(3) Assist schools in developing and improving school safety plans that address responses to and recovery from large-scale disasters;

(4) Work with parents and students to obtain information about effective programs and strategies and encourage their participation in the development and implementation of those strategies and programs;

(5) Facilitate evaluation of the schools prevention programs and strategies and use findings to modify programs, as needed;

(6) Identify additional funding sources for drug prevention and school safety programming;

(7) Provide information to State educational agencies (SEAs) on programs and activities that have proven to be successful in reducing drug use and violent behavior;

(8) Coordinate with student assistance and employee assistance programs; and

(9) Link other educational resources (e.g., Title I funds) to programs and strategies that serve to create safer, more orderly schools.

b. “Schools with significant drug and school safety problems” are defined as those that have identified drug use and school safety as serious problems in their most recent needs assessment and that have taken one or more of the following actions within the 12 months preceding the date of this announcement:

(1) Suspended, expelled, or transferred to alternative schools or programs at least one student for possession, distribution, or use of alcohol or drugs, including tobacco;

(2) Referred for treatment of substance abuse at least five students;

(3) Suspended, expelled, or transferred to alternative schools or programs at least one student for possession or use of a firearm or other weapon; or

(4) Suspended, expelled, or transferred to alternative schools or programs at least five students for physical attacks or fights.

Other Requirements

(a) Participation by Private School Children and Teachers. LEAs that receive a National Coordinator Program grant are required to provide for the equitable participation of eligible private school children and their teachers or other educational personnel. In order to ensure that grant program activities address the needs of private school children, timely and meaningful consultation with appropriate private school officials must occur during the design and development of the program. Administrative direction and control over grant funds must remain with the grantee.

(b) Maintenance of Effort. An LEA may receive a National Coordinator Program grant only if the SEA finds that the combined fiscal effort per student or the aggregate expenditures of the agency and the State with respect to the provision of free public education by the agency for the preceding fiscal year was not less than 90 percent of the combined fiscal effort or aggregate expenditures for the second preceding fiscal year.

(c) Annual Report. LEAs receiving a grant under this program must report annually to the Department of Education on progress toward meeting measurable goals and objectives of the funded project.

(d) National Evaluation. The Department of Education is conducting a national evaluation of the National Coordinator Program to determine its efficacy as a means of improving prevention programming. Grantees must agree to participate in the evaluation as a condition of receiving a grant.

(e) Hiring. LEAs may apply for grant funding under the absolute priority for this competition to hire one or more coordinators to serve schools in the district. Each coordinator hired with funds from this grant must: (1) Serve at least one school and no more than four schools; (2) have no duties other than coordinating and administering the drug prevention and school safety programs in those schools; (3) have a degree from an accredited four-year institution of higher education and an academic background or equivalent work experience in a field related to youth development, such as education, psychology, sociology, social work, or nursing; and (4) participate in any training required by the Department.

Waiver of Proposed Rulemaking: Under the Administrative Procedure Act (5 U.S.C. 553), the Department generally offers interested parties the opportunity to comment on proposed rules. Section 437(d)(1) of the General Education Provisions Act, however, exempts from this requirement rules that apply to the first competition under a new or substantially revised program authority. This is the first competition under the National Coordinator Program, which was substantially revised by the No Child Left Behind Act of 2001.

Absolute Priority: Under 34 CFR 75.105(c)(3) and the Safe and Drug-Free Schools and Communities Act, the Assistant Secretary gives an absolute priority to applications that meet the following priority and funds under this competition only applications that meet this absolute priority. Under the absolute funding priority for this grant competition, LEAs with significant drug and school safety problems in their schools must propose projects that—

Recruit, hire, and train individuals to serve as full-time drug prevention and school safety program coordinator(s) in schools with significant drug and school safety problems, who are responsible only for: (1) Developing, conducting, and analyzing assessments of drug and crime problems at their schools; and (2) administering the school's safe and drug-free grant program as defined in this notice.

Selection Criteria: The Assistant Secretary uses the following selection criteria to evaluate applications for new grants under this competition. The maximum score for all of these criteria is 100 points. The maximum score for each criterion is indicated in parentheses.

(1) Need for the project. (25 points)

In determining the need for the proposed project, the following factor is considered: The extent to which specific gaps or weaknesses in services, infrastructure, or opportunities have been identified and will be addressed by the proposed project, including the nature and magnitude of those gaps or weaknesses.

(2) Quality of the project design. (30 points)

In determining the quality of the design of the proposed project, the following factors are considered:

(i) The extent to which the design of the proposed project is appropriate to, and will successfully address, the needs of the target population;

(ii) The extent to which the proposed project is designed to build capacity and yield results that will extend beyond the period of Federal financial assistance;

(iii) The extent to which the proposed project will establish linkages with other appropriate agencies and organizations providing services to the target population, including community coalitions;

(iv) The extent to which the proposed project encourages parental involvement in the development and implementation of the project; and

(v) The extent to which performance feedback and continuous improvement are integral to the design of the proposed project.

(3) Adequacy of resources. (25 points)

In determining the adequacy of resources, the following factors are considered:

(i) The adequacy of support, including facilities, equipment, supplies and other resources from the applicant organization or the lead applicant organization;

(ii) The extent to which the costs are reasonable in relation to the number of persons to be served and to the anticipated results and benefits;

(iii) The potential for continued support of the project after Federal funding ends, including, as appropriate, the demonstrated commitment of appropriate entities to such support; and

(iv) The potential for the incorporation of project purposes, activities, or benefits into the ongoing program of the agency or organization at the end of Federal funding.

(4) Quality of the project evaluation. (20 points)

In determining the quality of the project evaluation, the following factors are considered:

(i) The extent to which the methods of evaluation are appropriate to the context within which the project operates;

(ii) The extent to which the methods of evaluation provide for examining the effectiveness of project implementation strategies; and

(iii) The extent to which the methods of evaluation will provide performance feedback and permit periodic assessment of progress toward achieving intended outcomes.

Pilot Project for Electronic Submission of Applications

In FY 2002, the U.S. Department of Education is continuing to expand its pilot project of electronic submission of applications to include additional formula grant programs and additional discretionary grant competitions. The National Coordinator Program (84.184K) is one of the programs included in the pilot project. If you are an applicant under the National Coordinator Program, you may submit your application to us in either electronic or paper format.

The pilot project involves the use of the Electronic Grant Application System (e-APPLICATION, formerly e-GAPS) portion of the Grant Administration and Payment System (GAPS). We request your participation in this pilot project. We shall continue to evaluate its success and solicit suggestions for improvement.

If you participate in this e-APPLICATION pilot, please note the following:

• Your participation is voluntary.

• You will not receive any additional point value or penalty because you submit a grant application in electronic or paper format.

• You can submit all documents electronically, including the Application for Federal Assistance (ED 424), Budget Information—Non-Construction Programs (ED 524), and all necessary assurances and certifications.

• Within three working days of submitting your electronic application fax a signed copy of the Application for Federal Assistance (ED 424) to the Application Control Center after following these steps:

1. Print ED 424 from the e-APPLICATION system.

2. Make sure that the institution's Authorizing Representative signs this form.

3. Before faxing this form, submit your electronic application via the e-APPLICATION system. You will receive an automatic acknowledgement, which will include a PR/Award number (an identifying number unique to your application).

4. Place the PR/Award number in the upper right corner of ED 424.

5. Fax ED 424 to the Application Control Center at (202) 260-1349.

• We may request that you give us original signatures on all other forms at a later date.

You may access the electronic grant application for the National Coordinator Program at: http://e-grants.ed.gov.

We have included additional information on the e-APPLICATION pilot project (see Parity Guidelines between Paper and Electronic Applications) in the application package.

FOR APPLICATIONS AND FURTHER INFORMATION CONTACT: Deirdra R. Hilliard, U.S. Department of Education, Safe and Drug-Free Schools Program, 400 Maryland Avenue, SW., Room 3E256, Washington, DC 20202-6123. Telephone: (202) 260-2643, or the following email or internet addresses: deirdra.hilliard@ ed.gov www.ed.gov/offices/OESE/SDFS.

If you use a telecommunications device for the deaf (TDD), you may call the Federal Information Relay Service (FIRS) at 1-800-877-8339.

Individuals with disabilities may obtain this document, or an application package in an alternative format (e.g., Braille, large print, audiotape, or computer diskette) on request to the contact person listed in the preceding paragraph. However, the Department is not able to reproduce in an alternative format the standard forms included in the application package.

Electronic Access to This Document

You may view this document, as well as all other Department of Education documents published in the Federal Register, in text or Adobe Portable Document Format (PDF) on the Internet at the following site: www.ed.gov/legislation/FedRegister

To use PDF you must have the Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.access.gpo.gov/nara/index.html

Program Authority: 20 U.S.C. 7135.

Dated: April 9, 2002.
Susan B. Neuman,
Assistant Secretary for Elementary and Secondary Education.

[FR Doc. 02-8971 Filed 4-11-02; 8:45 am]

BILLING CODE 4000-01-P